DEPARTMENT OF STATE

[Public Notice: 12687]

Notice of Department of State Sanctions Actions Pursuant to the Executive Order Reimposing Certain Sanctions With Respect to Iran

SUMMARY: The Department of State is publishing the names of one or more persons that have been placed on the Department of Treasury's List of Specially Designated Nationals and Blocked Persons (SDN List) administered by the Office of Foreign Asset Control (OFAC) based on the Department of State's determination, in consultation with other departments, as appropriate, that one or more applicable legal criteria of the Executive Order reimposing certain sanctions with respect to Iran were satisfied. All property and interests in property subject to U.S. jurisdiction of these persons are blocked, and U.S. persons are generally prohibited from engaging in transactions with them.

DATES: See SUPPLEMENTARY INFORMATION section for applicable date(s).

FOR FURTHER INFORMATION CONTACT: Aaron P. Forsberg, Director, Office of Economic Sanctions Policy and Implementation, Bureau of Economic and Business Affairs, Department of State, Washington, DC 20520, tel.: (202) 647-7677, email: ForsbergAP@state.gov.

SUPPLEMENTARY INFORMATION:

Electronic Availability

The SDN List and additional information concerning sanctions programs are available on OFAC's website, https://ofac.treasury.gov/sanctions-programs-and-country-information/iran-sanctions.

Notice of Department of State Actions

On March 13, 2025, the Department of State, in consultation with other departments, as appropriate, determined that the property and interests in property subject to U.S. jurisdiction of the following persons are blocked under the relevant sanctions authority listed below.

Entities

1. PT. BINTANG SAMUDRA UTAMA, Jl. Let Jend. Suprapto No. 30 Komplek Ruko Cempaka Mas Blok B-28 Kel. Sumur Batu, Kec. Kemayoran Kota Administrasi, Jakarta Pusat 10630, Indonesia; Executive Order 13846 information: BLOCKING PROPERTY AND INTERESTS IN PROPERTY. Sec. 5(a)(iv); Tax ID No. 0018164418027000 (Indonesia); Identification Number IMO 5596048 [IRAN-EO13846].

Designated pursuant to section 3(a)(ii) of Executive Order 13846, “Reimposing Certain Sanctions With Respect to Iran” (E.O. 13846), for knowingly engaging in a significant transaction for the purchase, acquisition, sale, transport, or marketing of petroleum or petroleum products from Iran.

2. SHIPLOAD MARITIME PTE. LTD., 6001 Beach Road #21-01 Golden Mile Tower, Singapore 199589, Singapore; Executive Order 13846 information: BLOCKING PROPERTY AND INTERESTS IN PROPERTY. Sec. 5(a)(iv); Identification Number IMO 5837979; Business Registration Number 200512603G (Singapore) [IRAN-EO13846].

Designated pursuant to section 3(a)(ii) of E.O. 13846 for knowingly engaging in a significant transaction for the purchase, acquisition, sale, transport, or marketing of petroleum or petroleum products from Iran.

3. PT. GIANIRA ADHINUSA SENATAMA, Meisterstadt Pollux Habibie Business Complex Blok D Nomor 03, Batam, Riau Islands, Indonesia; Executive Order 13846 information: BLOCKING PROPERTY AND INTERESTS IN PROPERTY. Sec. 5(a)(iv); Identification Number IMO 6505181; Business Registration Number 1340535 (Indonesia) [IRAN-EO13846].

Designated pursuant to section 3(a)(ii) of E.O. 13846 for knowingly engaging in a significant transaction for the purchase, acquisition, sale, transport, or marketing of petroleum or petroleum products from Iran.

Vessels

1. MARINA VISION (YDA3415) Tug Indonesia flag; Vessel Registration Identification IMO 8106109; MMSI 525010379 (vessel) [IRAN-EO13846] (Linked To: PT. GIANIRA ADHINUSA SENATAMA).

Identified as property in which PT. GIANIRA ADHINUSA SENATAMA, an entity designated pursuant to E.O. 13846, has an interest.

2. CELEBES (YDA3301) Tug Indonesia flag; Vessel Registration Identification IMO 8710730; MMSI 525018077 (vessel) [IRAN-EO13846] (Linked To: PT. BINTANG SAMUDRA UTAMA).

Identified as property in which PT. BINTANG SAMUDRA UTAMA, an entity designated pursuant to E.O. 13846, has an interest.

3. MALILI (YBEN) Tug Indonesia flag; Vessel Registration Identification IMO 9179921; MMSI 525018442 (vessel) [IRAN-EO13846] (Linked To: SHIPLOAD MARITIME PTE. LTD.).

Identified as property in which SHIPLOAD MARITIME PTE. LTD., an entity designated pursuant to E.O. 13846, has an interest.

Amy E. Holman,
Principal Deputy Assistant Secretary, Bureau of Economic and Business Affairs, Department of State.

[FR Doc. 2025-05354 Filed 3-27-25; 8:45 am]

BILLING CODE 4710-07-P